DEPARTMENT OF THE INTERIOR

National Park Service

[NPS-PWR-PWRO-0411-10061; 8140-P122-579]

Notice of Intent To Prepare Environmental Impact Statement for Alcatraz Ferry Embarkation Site, Golden Gate National Recreation Area, San Francisco and Marin Counties, CA

AGENCY: National Park Service, Interior.

ACTION: Notice of Intent to Prepare an Environmental Impact Statement for Alcatraz Ferry Embarkation Site.

SUMMARY: In accordance with § 102(2)(C) of the National Environmental Policy Act (NEPA) of 1969, and pursuant to the Council on Environmental Quality's regulations (40 CFR parts 1500-08), the National Park Service (NPS) is initiating the conservation planning and environmental impact analysis process for the proposed establishment of a long-term ferry embarkation site for passenger ferry service between the northern San Francisco waterfront and Alcatraz Island. In addition to considering the Alcatraz Ferry Embarkation site, the Environmental Impact Statement (EIS) will also evaluate potential for a secondary ferry transit service offering a cross-bay connection from the San Francisco embarkation site to Sausalito and/or Fort Baker. NPS is the lead federal agency for the environmental review under NEPA, and is developing the project in coordination with the Port of San Francisco (Port) and City and County of San Francisco (City) planning and transportation agencies.

As set forth in 36 CFR 800.8(c), the NPS is also using the NEPA process to fulfill certain provisions of § 106 of the National Historic Preservation Act related to consultation and public involvement. In addition, the NPS has requested that the Port and the City be cooperating agencies for the EIS. In the event that a site on Port property is identified as the preferred alternative, environmental review of the project pursuant to the California Environmental Quality Act (CEQA) would be required, and would be initiated at a later date.

DATES: All scoping comments must be postmarked or transmitted not later than July 31, 2012.

Background: Alcatraz Island, the site of pre-Civil War fortifications, was the nation's first military prison. It later became the most notorious maximum security penitentiary in the United States, and subsequently was the site of the occupation that helped ignite the movement for American Indian self-determination. Over 1.4 million people visit Alcatraz Island annually from the existing ferry embarkation site at Pier 31½ in San Francisco, managed by Golden Gate National Recreation Area (GGNRA). The Alcatraz Ferry Embarkation EIS will build upon several studies completed by NPS, the Port, the City, the State of California, and the California Water Emergency Transportation Authority (WETA; formerly the Water Transit Authority).

A 2011 draft feasibility study identified potential sites for consideration located among GGNRA, Fisherman's Wharf, and the northern Embarcadero. The sites studied included Port piers 19½, 29½, 31½, 41, and 45, and GGNRA piers 1, 2, 3, and 4 at Fort Mason. If suggested during scoping, other sites that meet the project purpose and need could also be considered. The draft feasibility study and subsequent investigations also analyzed the surrounding area, identified the programs and facilities needed to operate the sites, existing conditions at the sites, and criteria to evaluate the sites.

SUPPLEMENTARY INFORMATION: The NPS seeks to secure a site on the northern San Francisco waterfront that provides for a long-term (50 years or more) orientation and ferry embarkation facility for visitors to Alcatraz Island. NPS desires an identifiable, adequate, and quality visitor welcome and support area that begins to connect visitors to Alcatraz history, GGNRA, and the national park system. The NPS also seeks to establish ferry connections between the embarkation site and existing piers at Sausalito and/or at Fort Baker, which is managed by GGNRA.

The need for the project is driven by the following factors:

• Alcatraz ferry service is currently subject to location changes every 10 years which has led to visitor confusion, community concerns, and inconsistency in visitor support services.

• Ability to make improvements at the existing site is constrained by lease provisions between the Port and the concessioner, with substantial amounts of revenue spent on rent, reducing the amount available to invest on Alcatraz and other GGNRA sites.

• The condition of existing facilities constrains and negatively affects NPS and the concessioners' abilities to create a recognizable identity and quality visitor experience.

• The current facility has insufficient space to appropriately orient visitors to Alcatraz or provide information to the many visitors who are unable to visit Alcatraz.

• There is very limited opportunity to provide cross-bay ferry service to other GGNRA areas.

The objectives for this project include creating a ferry embarkation site that:

• Establishes a long-term (50 years or more) primary location for visitor access to Alcatraz Island.

• Is economically feasible and sustainable, and generates revenue for investment on Alcatraz and other park facilities and visitor programs.

• Accommodates critical visitor and operational programs and facilities, and provides for efficient land and vessel operations.

• Provides an identifiable area for quality welcome, orientation, and interpretation of the natural, cultural, scenic and recreational resources of Alcatraz, the larger GGNRA, and the national park system.

• Provides facilities for cross-bay ferry service to accommodate existing and future visitor demand for travel to Alcatraz Island, Muir Woods, and the Marin Headlands.

Public Scoping Comments and Further Information: This notice serves to formally open the agency and public scoping comment phase for this EIS. Key impact topics which are expected to be addressed in the EIS include transportation, visitor experience, aesthetics, economics, cultural resources, natural resources, and air quality—however, agencies, members of the public, and interested organizations are encouraged to provide any comments on the spectrum of issues and concerns that should be addressed. Respondents will also assist with defining a suitable range of alternatives; advise on the nature and extent of potential environmental impacts, including natural, cultural, socioeconomic and other topics; and suggest possible mitigation strategies that would reduce potential impacts from project development.

Several public scoping meetings will be scheduled in San Francisco and Marin Counties. Meeting dates, times, and locations will be publicized through local and regional news media, by email to the park mailing list (to be included on the EIS email list, please visit: www.nps.gov/goga and click the “Join the Mailing List” link), and via the project Web site http://parkplanning.nps.gov/ALCAembarkation. This Web site will also provide relevant information, including the project description, planning process updates, meeting notices, reports and documents, and useful links associated with the project. You may also contact the GGNRA Planning Division at goga_planning@nps.gov or (415) 561-4700 for further information.

ADDRESSES: Written comments should be mailed to the following address: Superintendent, Golden Gate National Recreation Area, Attn: Alcatraz Ferry Embarkation EIS, Fort Mason, Bldg. 201, San Francisco, CA 94123. Before including your address, phone number, email address, or other personal identifying information in your comment, you should be aware that your entire comment—including your personal identifying information—may be made publicly available at any time. While you can ask us in your comment to withhold your personal identifying information from public review, we cannot guarantee that we will be able to do so.

Decision Process: At this time, it is anticipated that the Draft EIS will be available for public review in mid-2013. Availability of the document for review will be announced by the publication of a Notice of Availability in the Federal Register, through local and regional news media, via the project Web site, and by email to project email recipients. Additional public meetings will be held after the Draft EIS is distributed to provide further opportunities to comment on the proposed project. Following due consideration of all comments received on the Draft EIS, preparation of the Final EIS is anticipated to be completed in 2014. As a delegated EIS, the official responsible for the final decision regarding the proposed ferry embarkation site is the NPS Regional Director, Pacific West Region. Subsequently, the official responsible for implementation will be the GGNRA Superintendent.

Dated: April 6, 2012.
Patricia L. Neubacher,
Acting Regional Director, Pacific West Region.

[FR Doc. 2012-13398 Filed 5-31-12; 8:45 am]

BILLING CODE 4312-FN-P